DEPARTMENT OF TRANSPORTATION

National Highway Traffic Safety Administration

49 CFR Part 571

[Docket No. NHTSA-2012-0036]

RIN 2127-AL05

Federal Motor Vehicle Safety Standards; Seat Belt Assembly Anchorages

AGENCY: National Highway Traffic Safety Administration (NHTSA), U.S. Department of Transportation (DOT).

ACTION: Notification of availability of technical reports.

SUMMARY: This notification announces the availability of documents supplementing NHTSA's March 2015 Supplemental Notice of Proposed Rulemaking (SNPRM) to amend Federal Motor Vehicle Safety Standard (FMVSS) No. 210, “Seat belt assembly anchorages.” The SNPRM proposed an alternative test procedure that would maintain the current FMVSS No. 210 body blocks and specify zones for the placement of the blocks at preload. The agency has conducted additional research since the publication of the SNPRM. This notification announces the docketing and availability of this research.

DATES: The documents referenced in this notification will be available in the docket as of April 16, 2018.

ADDRESSES: You may submit comments to the docket number identified in the heading of this document by any of the following methods:

• Federal eRulemaking Portal: Go to http://www.regulations.gov. Follow the online instructions for submitting comments.

• Mail: Docket Management Facility, M-30, U.S. Department of Transportation, West Building, Ground Floor, Room W12-140, 1200 New Jersey Avenue SE, Washington, DC 20590.

• Hand Delivery or Courier: West Building Ground Floor, Room W12-140, 1200 New Jersey Avenue SE, between 9 a.m. and 5 p.m. Eastern Time, Monday through Friday, except Federal holidays.

• Fax: 202-493-2251.

Regardless of how you submit your comments, you should state the docket number of this document.

You may call the Docket at 202-366-9826.

Instructions: For detailed instructions on submitting comments and additional information on the rulemaking process, see the Public Participation heading of the Supplementary Information section of this document. Note that all comments received will be posted without change to http://www.regulations.gov, including any personal information provided. Please see the Privacy Act discussion below.

Privacy Act: Anyone is able to search the electronic form of all comments received into any of our dockets by the name of the individual submitting the comment (or signing the comment, if submitted on behalf of an association, business, labor union, etc.). You may review DOT's complete Privacy Act Statement in the Federal Register notice published on April 11, 2000 (65 FR 19477-78).

FOR FURTHER INFORMATION CONTACT: Ms. Carla Rush, Office of Crashworthiness Standards, National Highway Traffic Safety Administration, 1200 New Jersey Avenue SE, Washington, DC 20590 (telephone 202-366-4583, fax 202-493-2739).

Mr. John Piazza, Office of the Chief Counsel, National Highway Traffic Safety Administration, 1200 New Jersey Avenue SE, Washington, DC 20590 (telephone 202-366-2992, fax 202-366-3820).

SUPPLEMENTARY INFORMATION:

On March 30, 2012, the agency published in the Federal Register a Notice of Proposed Rulemaking (NPRM) (77 FR 19155) that proposed to amend Federal Motor Vehicle Safety Standard (FMVSS) No. 210, “Seat belt assembly anchorages,” to replace the current pelvic body block and the upper torso body block with a new Force Application Device (FAD). The rationale provided for the proposal included the FAD's ease of use, that it is representative of the human form, and that it provides a consistent test configuration and load path to the seat belt assembly anchorages without affecting the stringency of the compliance test.

The agency received a number of comments on the NPRM that raised issues concerning the feasibility of the FAD proposal. In light of those comments, NHTSA published a Supplemental Notice of Proposed Rulemaking (SNPRM) on March 2, 2015 (80 FR 11148). The SNPRM proposed, as an alternative to the FAD proposed in the NPRM, to maintain the current FMVSS No. 210 body blocks and specify “zones” for the preload placement of the body blocks. In the SNPRM, the agency noted that it had initiated research to aid in the development of the zones bounding the initial placement for the current body blocks. This research has now been completed.

The agency is docketing a variety of research reports. This research falls into three categories. The first category is additional research tests on passenger vehicles in order to evaluate the performance of the FAD in comparison to the body blocks in the same vehicle. The second category is research and testing performed to establish practical, repeatable, and validated zones for initial positioning (at preload) of the current FMVSS No. 210 body blocks (“Development of Positioning Zones for FMVSS No. 210 Body Blocks”). The third category is testing of the proposed FAD on buses with a gross vehicle weight rating of more than 4,536 kilograms (10,000 pounds) (Report Nos. 207/210-MGA-2013-001 and 207/210-MGA-2013-002). The objective of this testing was to determine whether the proposed FAD affects the stringency of FMVSS No. 210 compliance tests on heavy duty vehicle seats and to assess how the FAD performs in these tests.

How do I prepare and submit comments?

Your comments must be written and in English. To ensure that your comments are correctly filed in the docket, please include the docket number of this document in your comments.

Your comments must not be more than 15 pages long. (49 CFR 553.21). We established this limit to encourage you to write your primary comments in a concise fashion. However, you may attach necessary additional documents to your comments. There is no limit on the length of the attachments.

Comments may also be submitted to the docket electronically by logging into http://www.regulations.gov. Follow the online instructions for submitting comments.

Please note that pursuant to the Data Quality Act, in order for substantive data to be relied upon and used by the agency, it must meet the information quality standards set forth in the OMB and DOT Data Quality Act guidelines. Accordingly, we encourage you to consult the guidelines in preparing your comments. OMB's guidelines may be accessed at http://www.whitehouse.gov/omb/fedreg/reproducible.html.

How can I be sure that my comments were received?

If you wish DOT's Docket Management Facility to notify you upon its receipt of your comments, enclose a self-addressed, stamped postcard in the envelope containing your comments. Upon receiving your comments, the Docket Management Facility will return the postcard by mail.

How do I submit confidential business information?

If you wish to submit any information under a claim of confidentiality, you should submit three copies of your complete submission, including the information you claim to be confidential business information, to the Chief Counsel, NHTSA, at the address given above under FOR FURTHER INFORMATION CONTACT. In addition, you should submit two copies, from which you have deleted the claimed confidential business information, to Docket Management at the address given above under ADDRESSES. When you send a comment containing information claimed to be confidential business information, you should include a cover letter setting forth the information specified in our confidential business information regulation. (49 CFR part 512.)

How can I read the comments submitted by other people?

You may read the comments at DOT's Docket Management Facility at the address given above under ADDRESSES. The hours of the facility are indicated above in the same location. You may also see the comments on the internet. To read the comments on the internet, go to http://www.regulations.gov. Follow the online instructions for accessing the dockets.

Authority: delegation of authority at 49 CFR 1.95 and 501.8.

Raymond R. Posten,
Associate Administrator for Rulemaking.

[FR Doc. 2018-07132 Filed 4-13-18; 8:45 am]

BILLING CODE 4910-59-P